DEPARTMENT OF HOUSING AND URBAN DEVELOPMENT

[Docket No. FR-6255-N-01]

Notice of Intent To Prepare a Draft Environmental Impact Statement (EIS) for the One San Pedro Specific Plan Project in Los Angeles City, California

AGENCY: Office of the Assistant Secretary for Community Planning and Development, HUD.

ACTION: Notice of Intent (NOI) to prepare an Environmental Impact Statement (EIS).

SUMMARY: The City of Los Angeles, through the City of Los Angeles's Housing and Community Investment Department (HCID) is providing Notice of Intent (NOI) to prepare a combined Environmental Impact Report (EIR) and Environmental Impact Statement (EIS) in accordance with the National Environmental Policy Act (NEPA) and the California Environmental Quality Act (CEQA) for the Rancho San Pedro public housing redevelopment project, located in Los Angeles, California. The proposed action is subject to NEPA because the Housing Authority of the City of Los Angeles (HACLA), as the recipient of HUD's grant funding, proposes to carry out a Section 18/Rental Assistance Demonstration (RAD) demolition/disposition through a ground lease and to use a combination of Project-Based Vouchers (PBV) and Tenant Protection Vouchers (TPV). A Public Scoping Meeting for CEQA issues was held on February 6, 2021. This NOI complies with the NEPA public scoping process requirements by providing notice of a second Public Scoping Meeting on April 27, 2021 to discuss the EIR/EIS. Following the public scoping process, a Draft EIR/EIS will be prepared and ultimately circulated for public comment.

DATES: The next Public Scoping Meeting to satisfy NEPA requirements will be held virtually on Tuesday, April 27, 2021, from 5 p.m. to 6:30 p.m. Pacific Time, at https://zoom.us/j/99228962849?pwd=dTZ6VEkwdW9rR2cxM0dqOUhteWsxUT09 or by calling (669) 900-6833 (Meeting ID: 992 2896 2849, Passcode: 757989).

Comments on the scope of the EIR/EIS will be accepted during the Public Scoping Meeting and for 30 days from the date of this Notice of Intent, April 9, 2021.

ADDRESSES: Comments relating to the scope of the EIR/EIS or on the draft EIR/EIS, when made available, will be accepted by the contact person listed below. Copies of Public notices are available at the following websites: https://hcidla2.lacity.org/partners/nepa-review-2 and http://www.hacla.org/publicdocs.

FOR FURTHER INFORMATION CONTACT: Jinderpal Singh Bhandal, Environmental Supervisor, Finance & Development Division, HCID, telephone number: (213) 808-8558, Jinderpal.Bhandal@lacity.org. Comments and questions can also be directed to Jessica Frazier, Development Officer, Strategic Development, HACLA, jessica.frazier@hacla.org, telephone number: (213) 252-6120.

SUPPLEMENTARY INFORMATION: For projects that require an Environmental Impact Statement (EIS), the Responsible Entity, as defined in 24 CFR 58.2(a)(7), must provide a notice of intent (NOI) to begin the public scoping process in accordance with National Environmental Policy Act of 1969, as amended, 42 U.S.C. 4321 et seq. (NEPA); the Council of Environmental Quality (CEQ) NEPA Regulations at 40 CFR parts 1500-1508; and HUD implementing regulations at 24 CFR part 58. The Housing Authority of the City of Los Angeles (HACLA), as the recipient of HUD's grant funding, proposes to carry out a Section 18/Rental Assistance Demonstration (RAD) demolition/disposition through a ground lease and to use a combination of RAD Project-Based Vouchers (PBV), Tenant Protection Vouchers (TPV), and PBV authorized by the U.S. Housing Act of 1937, as amended (USHA), to redevelop the Rancho San Pedro public housing project site.

On behalf of HACLA, the City of Los Angeles, through the City of Los Angeles's Housing and Community Investment Department (HCID), is acting as the Responsible Entity for the Rancho San Pedro public housing project. Because the project is located in Los Angeles, California, the California Environmental Quality Act (CEQA), Public Resources Code 21000 et seq. and 14 California Code of Regulations 15000 et seq., also requires the completion of an Environmental Impact Report (EIR). For compliance with CEQA, HACLA held a public scoping meeting on February 6, 2021. As required by both NEPA and HUD's regulations, HCID issues this NOI to prepare a combined EIR/EIS for the Rancho San Pedro public housing project site. This NOI complies with the NEPA public scoping process requirements by providing notice of a second Public Scoping Meeting on April 27, 2021 to discuss the EIR/EIS.

Following the public scoping process, a Draft EIR/EIS will be prepared that analyzes the project. Once the Draft EIR/EIS is certified as complete, the public will be invited to participate in its review and it will ultimately be circulated for public comment. A Notice of Availability of the Draft EIR/EIS will be published in the Federal Register and will be announced through public mailings and the local news media. All interested Federal, state, and local agencies; Indian tribes; and the public are invited to comment on the scope of the EIR/EIS. Agencies with jurisdiction over natural or other public resources affected by the project or that possess information about the project site that HCID should consider in the Draft EIR/EIS are invited to submit comments to the individuals named in this notice.

A. Project Background

The project site is in the Barton Hill neighborhood with the historic Downtown San Pedro located two blocks to the south and the San Pedro Waterfront to the east. The Port of Los Angeles (managed by the Los Angeles Harbor Department) lies to the east, and toward the north is the SR 47 (Vincent Thomas Bridge).

Most of the surrounding Barton Hill neighborhood has a low-density residential character with single-family homes, though numerous properties host a main home on the front of the lot and an accessory dwelling unit to the rear. Additionally, there are a few vintage bungalow courts, small lot properties, and duplexes. The residential character of Barton Hill becomes denser with two- and three-story multifamily buildings around the Rancho San Pedro border. Other affordable housing developments to the immediate north and southwest of the project site host medium residential density development, with an increase in building scale towards Pacific Avenue to the west and Downtown San Pedro to the south. Immediately to the south between Rancho San Pedro and the Downtown core of 6th and 7th Street are a collection of civic and institutional buildings, including the Harbor Department Administration Building, Port Police Headquarters, Port of Los Angeles Charter High School, and The Port of Los Angeles Boys & Girls Club.

B. Purpose and Need for the Proposed Action

Rancho San Pedro is seventy to eighty years old and the structures are reaching their useful life expectancy. The buildings were constructed in a style, form, and function typical of public housing developments at that time and suffer from monotonous building design, repetitive building pattern, long street frontages, and lack of through streets. These design deficiencies result in indefensible space and security issues, inadequately sized units, and accessibility issues, among other things. As the Greater Los Angeles region is experiencing a crisis of housing affordability, resulting in over-crowding conditions and homelessness, there is also the added imperative to use the large publicly owned property to expand affordable housing supply.

In 2015, HACLA, in cooperation with Los Angeles City Council District 15 and the Mayor's Office of Economic Development, commissioned a feasibility study to determine the highest and best use and development potential of the Rancho San Pedro public housing property. The study outlines potential strategies to maximize the value of the property to the public and concludes that replacing and expanding the available housing—both affordable as well as market-rate—would be the highest and best use of the public property with the primary objective to replace the existing affordable housing located at Rancho San Pedro for those currently residing there.

The location, size of the property, and potential redevelopment scale also provides the capacity to layer additional community benefits into redevelopment. These have been identified within the San Pedro Redevelopment Plan, as well as by residents of Rancho San Pedro.

The project would thrive as a revitalized, mixed-income neighborhood that builds on its existing assets and creates new, high-quality housing options. Adjacent to the waterfront and downtown, the project would be a model for other revitalization efforts, complete with cultural, community, and economic activity. It would be a safe neighborhood with new parks and recreational opportunities, walking and biking streets, and a variety of housing and supportive service options.

C. Project Description

The project is located at 275 West First Street in the City of Los Angeles in the community of San Pedro. The project site is approximately 21 acres in size and is currently developed with an existing 478-unit public housing complex known as “Rancho San Pedro,” which was initially developed in 1942 with subsequent development in 1955. The existing access to the project site is from local surface streets surrounding the site, which include Santa Cruz Street to the north, Harbor Boulevard to the east, 3rd Street to the south, and Mesa Street to the west.

Development of the proposed project would occur in multiple phases. Initial phases would focus on replacement and expansion of the aging housing stock with the later phases dedicated to expansion of affordable units, homeownership, community amenities, and services. The proposed phasing would be planned to minimize disturbance to current residents. The project would pursue a “build-first” approach to the greatest extent possible. When residents must be relocated, HACLA adheres to all of the requirements of the Uniform Relocation Assistance and Real Property Acquisition Policies Act of 1970. For purposes of the environmental analysis and to provide a conservative analysis of environmental impacts, overall construction is estimated to take approximately 14 years, with construction activities occurring from 2024 to 2037. The opening year for the first constructed buildings is expected to occur in 2025.

The proposed project involves the redevelopment of the Rancho San Pedro complex with a Specific Plan in order to improve the physical condition of the community and increase housing stock and amenities for residents. The proposed project would include demolition of the existing 478-unit Rancho San Pedro complex, including 8,000 square feet (sf) of amenities, services and administration, and construction of new housing (in phases) with a total of up to 1,390 multi-family residential units for mixed-income households, 85,000 sf of services, amenities and administration, and 45,000 sf of commercial/retail uses. Each building would have its own onsite parking garage with secured access limited to residents. In addition to secured parking garages, on-street parking within and around the site would also be maximized for guests and customers, including expanding available diagonal parking where available. This would include reconfiguring on-street curb parking, transitioning from parallel to diagonal parking on some blocks. The proposed project would maintain the existing street grid and block configuration, with the exception of Beacon Street and the intersecting portion of Second Street, where a new pedestrian plaza is proposed. Site access would be similar to the existing conditions.

D. Alternatives to the Proposed Action

Consistent with the Council on Environmental Quality regulations implementing NEPA, the EIS will examine a range of reasonable alternatives (40 CFR 1502.14) to the proposed project that are potentially feasible. As required by NEPA, the alternatives will be evaluated at the same level of detail as the proposed project. As a result of the scoping efforts to date, the alternatives currently proposed for evaluation in the EIS include:

No Project/Action Alternative. This required alternative would evaluate the environmental impacts if the proposed project were not constructed and existing conditions remain unchanged.

Preferred Alternative. This alternative would implement the proposed project described above in this notice under Project Description, including the demolition of the existing 478 housing units and the construction of up to 1,390 multi-family residential units for mixed-income households, 85,000 sf of services, amenities and administration, and 45,000 sf of commercial/retail uses.

A range of other reasonable alternatives (to be identified) based on input received during the scoping process will be considered in the EIR/EIS. These may include: An alternative where existing buildings will be rehabilitated pursuant to the Secretary of the Interior Standards for Rehabilitation instead of being demolished and reconstructed; a decreased intensity alternative where the number of housing units, services, amenities and administration, and commercial/retail uses would be decreased; a modified site plan alternative where the layout and location of the buildings and critical infrastructure is modified; or an increased intensity alternative where the number of housing units, services, amenities and administration, and commercial/retail uses would be increased.

The following alternatives are infeasible and/or would not meet the purposes and needs described in this notice, and thus will not be considered: An off-site alternative as it would be financially infeasible to purchase another site of the same size in the same general geographic area; a non-residential alternative as California is experiencing a housing crisis, which has highlighted the severe deficiency of affordable housing; an alternative that reduces the number of existing housing units because of the area's significant housing need; and an alternative where the site is abandoned as it is crucial to providing affordable housing for current residents of the site and to meeting regional affordable housing needs.

E. Need for the EIR/EIS

The Proposed Project described above has the potential to significantly affect the quality of the human environment. The implementing regulations of the Council on Environmental Quality (CEQ) (40 CFR parts 1500-1508) and HUD's regulations (24 CFR part 58) require the preparation of an EIS in accordance with NEPA requirements. Responses to this notice will be used to: (1) Determine significant environmental issues; (2) assist in developing a range of alternatives to be considered; (3) identify issues that the EIS should address; and (4) identify agencies and other parties that will participate in the EIS process and the basis for their involvement.

As the Proposed Project also implicates reporting requirements under California law, an EIR must be prepared in accordance with the State of California CEQA. HCID and HACLA, therefore, intend to prepare a combined environmental document, an EIR/EIS.

The Draft EIR/EIS will be circulated for public review in 2021 and decision making is expected in 2021 or early 2022. The project will require the following approvals: (1) Adoption of Master Development Agreement, Disposition and Development Agreements, Ground Leases, and Relocation Plan by HACLA; (2) NEPA part 58 Compliance necessary for Demolition/Disposition and RAD Conversion of the existing Rancho San Pedro development from HUD and potential federal funding for the project; (3) Certification of the EIR/EIS; (4) Adoption of the One San Pedro Specific Plan, General Plan Amendment, Phased Vesting Tentative Tract Map, and Zone and Height District change by the City of Los Angeles; (5) Haul route approval from the Los Angeles Department of Building and Safety (if required); (6) Permit for removal of street trees from the Los Angeles Board of Public Works (if required); (7) Approval of a Water Supply Assessment; and (8) Other discretionary and ministerial permits and approvals that may be deemed necessary, including, but not limited to, demolition permits for structures and trees, temporary street closure permits, grading permits, excavation permits, foundation permits, building permits, and sign permits in order to execute and implement the project. HACLA will consider a Disposition and Development Agreement with the developer.

F. Probable Environmental Effects

Due to the increase in number of residents and expansion of the built environment, the proposed project could have potentially significant environmental impacts in the following topic areas, which will be addressed in the EIR/EIS: Aesthetics, Air Quality, Biological Resources, Geology and Soils, Greenhouse Gas Emissions, Energy, Environmental Justice, Hazards and Hazardous Materials from construction materials, Land Use and Planning, Noise, Population and Housing, Public Services, Recreation, Transportation/Traffic, Utilities/Service Systems, and Hydrology and Water Quality. A Water Supply Assessment will be completed to determine the impact on the existing water supply.

The project involves funding from HUD that qualifies as an undertaking subject to Section 106 of the National Historic Preservation Act (54 U.S.C. 306108) due to potential effects to historic properties. HCID will be initiating the Section 106 consultation process with the California State Historic Preservation Officer.

HCID invites comments from all interested parties about the potential impacts this project may have on historic properties, cultural resources, or biological and natural resources, as well as the impacts these resources may have on the project, and identification of potential alternatives, information, and analyses relevant to the proposed action. HCID invites all interested parties to participate in the scoping meeting.

G. Scoping

Following the Public Scoping Meeting for CEQA issues held on February 6, 2021, a second Public Scoping Meeting for NEPA issues will be held online using Zoom on April 27, 2021 to share information regarding the project and the environmental review process. The meeting will also be an opportunity for HCID and HACLA to receive verbal and written public comments regarding the scope and content of the environmental analysis to be addressed in the EIR/EIS. Staff, environmental consultants, and project representatives will be available, and a brief presentation is scheduled. HACLA and HCID encourage all interested individuals and organizations to attend this meeting. Written comments may be submitted during the project review period. No decisions about the project will be made at the Public Scoping Meeting. A separate public hearing on the underlying project approvals will be scheduled after the completion of the Draft EIR/EIS.

The date, time, and location of the next Public Scoping Meeting to satisfy NEPA requirements is as follows:

Tuesday, April 27, 2021, 5 p.m. to 6:30 p.m. Pacific Time, https://zoom.us/j/99228962849?pwd=dTZ6VEkwdW9rR2cxM0dqOUhteWsxUT09 or call (669) 900-6833 (Meeting ID: 992 2896 2849, Passcode: 757989).

HCID and HACLA want the meeting to be open to those with Limited English Proficiency and Individuals with Disabilities. In order to ensure HCID and HACLA are able to effectively communicate with individuals in another language or with disabilities, including individuals with hearing, vision or speech impairments, HACLA will furnish appropriate auxiliary aids and services, where necessary. Examples of auxiliary aids and services include amplification headsets, language interpreters, note-takers, transcription services, written materials and large print materials.

To ensure availability, you are advised to make your request for an auxiliary aid or service at least 72 hours prior to the meeting/event. Requests should be directed to Jocelyn Aldana at telephone number (213) 252-1037 or by email at Jocelyn.aldana@hacla.org. Puede obtener información en español sobre esta Reunion llamando a Jocelyn Aldana al (213) 252-1037.

H. Lead Agencies

HCID is the Responsible Entity and lead agency for this project's EIS in accordance with 24 CFR part 58, “Environmental Review Procedures for Entities Assuming HUD Environmental Responsibilities.” As the Responsible Entity, HCID assumes the responsibility for environmental review, decision-making, and action that would otherwise apply to HUD under NEPA. The project may use Community Development Block Grant Program (CDBG) funds (42 U.S.C. 5301 et seq.), HOME Investment Partnerships Program (HOME) funds (42 U.S.C. 12701 et seq.), Section 202 Project Rental Assistance Contract (PRAC) funds (12 U.S.C. 1701q), Section 8 Project-Based Vouchers (PBV) and Rental Assistance Demonstration Project-Based Vouchers (RAD PBV) (42 U.S.C. 1437f), or Section 811 Developmentally Disabled Vouchers (42 U.S.C. 8013). In addition, HACLA is the CEQA lead agency and is responsible for preparing an EIR.

Kevin J. Bush,
Deputy Assistant Secretary for Economic Development.

[FR Doc. 2021-06929 Filed 4-2-21; 8:45 am]

BILLING CODE 4210-67-P